DEPARTMENT OF TRANSPORTATION

National Highway Traffic Safety Administration

[Docket No. NHTSA 2001-9430; Notice 2]

Bajaj Auto, Ltd.; Grant of Application for Temporary Exemption From Federal Motor Vehicle Safety Standard No. 123

This notice grants the application by Bajaj Auto, Ltd., an Indian corporation, submitted by Rex Products, Inc. of South San Francisco, CA, dba Bajaj USA, for a temporary exemption of two years from a requirement of S5.2.1 (Table 1) of Federal Motor Vehicle Safety Standard No. 123 Motorcycle Controls and Displays. The basis of the request is that “compliance with the standard would prevent the manufacturer from selling a motor vehicle with an overall safety level at least equal to the overall safety level of nonexempt vehicles,” 49 U.S.C. Sec. 30113(b)(3)(B)(iv).

Notice of receipt of the application was published on April 20, 2001, and an opportunity afforded for comment (66 FR 20349).

Bajaj applied on behalf of its Saffire motor scooters (“scooters”) with automatic clutches. The scooters are defined as “motorcycles” for purposes of compliance with the Federal motor vehicle safety standards. According to Bajaj, the Saffire has a 90cc engine and a top speed of 60 km/h.

If a motorcycle is produced with rear wheel brakes, S5.2.1 of Standard No. 123 requires that the brakes be operable through the right foot control, though the left handlebar is permissible for motor driven cycles (Item 11, Table 1). Bajaj would like to use the left handlebar for the rear brake control for the scooters. Standard No. 123 specifies the left handlebar as the location for the manual clutch or integrated clutch and gear change, but there is no clutch on the automatic scooters.

Bajaj argued that the overall level of safety of the scooters equals or exceeds that of a motorcycle that complies with the brake control location requirement of Standard No. 123. Although “it is true that the human foot can apply much more force than can the hand, the foot is much less sensitive to travel distance. With the lever/cable operated brake system used on the Saffire, there is more than enough brake actuation force available to the hand of even the smallest rider.”

Bajaj intends to begin sales in the United States “for market testing purposes during the 2001 sales year” and would like to include the Saffire in its product line; without an exemption it would be unable to do so.

Bajaj anticipates sales of not more than 2500 scooters a year while an exemption is in effect. It believes that an exemption would be in the public interest and consistent with the objectives of traffic safety because it is intended for low-speed urban use, in “congested traffic conditions,” and “has been tested by long use in India and the rest of the world.” The petitioner states that “neither consumer groups nor governmental authorities have raised any safety concerns as a result of this design.” The scooter provides “environmentally clean and fuel efficient * * * urban transportation.” Specifically, “the exhaust, crankcase, and evaporative emissions of the motor scooter's very small engine have been demonstrated to be lower than alternative means of transportation such as large motorcycles.” If the exemption is granted, “the American consumer will be provided with a broader range of choice of low-cost, efficient, transportation.”

Bajaj's application was supported by Jeff Saunders of Palo Alto, California, and three other commenters. In Mr. Saunders' opinion, “Scooters offer an excellent way for novice riders to learn to operate a motorcycle, particularly due to the automatic transmission, the natural riding position, and the smaller size and weight of scooters as opposed to traditional motorcycles of similar engine size.”

NHTSA has exempted four other motorcycle manufacturers from S5.2.1 (Piaggio, 65 FR 64741; Vectrix, 64 FR 45585); Italjet, 64 FR 58127, and Aprilia, 64 FR 44262). Our concern about a lack of standardization of the rear brake control for scooter-type vehicles was addressed by Aprilia in its petition which included a report on “Motorscooter Braking Control Study,” available for examination in Docket No. NHTSA-99-4357. This report indicated that test subjects' brake reaction times using a vehicle configured like the Saffire were approximately 20% quicker than their reaction times on the conventional motorcycle. We interpreted the report as indicating that a rider's braking response is not likely to be degraded by the different placement of brake controls, and cited it in granting the similar petition by Vectrix. In Bajaj's case, the favorable comments appear to sustain our previous conclusions. As we announced in granting Piaggio's petition in October 2000, “we intend to initiate rulemaking to amend Standard No. 123 to address the location of the brake control on vehicles with automatic transmissions, such as the petitioner manufactures.” That remains our intent.

With respect to the public interest and the objectives of motor vehicle safety, the overall level of safety, as Bajaj argues, appears at least equal to that of vehicles certified to comply with Standard No. 123. Jeff Saunders comments that an exemption would be in the public interest by making available a compact, fuel-efficient vehicle for urban use that would not otherwise be available without an exemption. According to the comment, this is especially important in an urban location such as San Francisco where parking “may cost as much as $400 per month but parking for scooters and motorcycles is often free.” He also relates that “brakes on the handlebars and the automatic transmission also allow this motorcycle to be ridden (with a sidecar) by handicapped persons with limited leg use, who would otherwise have to have expensive brake and transmission modifications made to vehicles' which comply with Standard No. 123.

In consideration of the foregoing, we hereby find that Bajaj has met its burden of persuasion that, to require compliance with Standard No. 123 would prevent the manufacturer from selling a motor vehicle with an overall level of safety at least equal to the overall safety level of nonexempt vehicles. We further find that a temporary exemption is in the public interest and consistent with the objectives of motor vehicle safety. Accordingly, Bajaj Auto Ltd. is hereby granted NHTSA Temporary Exemption No. EX2001-5 from the requirements of item 11, Column 2, Table 1 of 49 CFR 571.123 Standard No. 123 Motorcycle Controls and Displays, that the rear wheel brakes be operable through the right foot control. This exemption applies only to the Saffire and will expire on June 1, 2003.

(49 U.S.C. 30113; delegation of authority at 49 CFR 1.50)

Issued on July 23, 2001.
L. Robert Shelton,
Executive Director.

[FR Doc. 01-18762 Filed 7-26-01; 8:45 am]

BILLING CODE 4910-59-P